DEPARTMENT OF JUSTICE

28 CFR Parts 25 and 107

[Docket No. OAG191; AG Order No. 6336-2025]

RIN 1105-AB78

Application for Relief From Disabilities Imposed by Federal Laws With Respect to the Acquisition, Receipt, Transfer, Shipment, Transportation, or Possession of Firearms

AGENCY: Department of Justice.

ACTION: Notice of proposed rulemaking.

SUMMARY: The Department of Justice (“the Department”) proposes to implement criteria to guide determinations for granting relief from disabilities imposed by Federal laws with respect to the acquisition, receipt, transfer, shipment, transportation, or possession of firearms. In accordance with certain firearms laws and the Second Amendment of the Constitution, the criteria are designed to ensure the fundamental right of the people to keep and bear arms is not unduly infringed, that those granted relief are not likely to act in a manner dangerous to public safety, and that granting such relief would not be contrary to the public interest.

DATES: Written comments must be postmarked and electronic comments must be submitted on or before October 20, 2025.

ADDRESSES: You may submit comments, identified by docket number (OAG191), by any of the following methods:

• Federal eRulemaking Portal: https://www.regulations.gov. Follow the instructions for submitting comments. Commenters should be aware that the electronic Federal Docket Management System will not accept comments after 11:59 p.m. Eastern Time on the last day of the comment period.

• Mailed Comments: Paper comments that duplicate an electronic submission are discouraged. Should you wish to mail a paper comment in lieu of submitting comments electronically, it should be sent via regular or express mail to: Kira Gillespie, Deputy Pardon Attorney, Office of the Pardon Attorney, U.S. Department of Justice, 950 Pennsylvania Avenue NW, Washington, DC 20530. Hand-delivered comments will not be accepted. Comments submitted in a manner other than the ones listed above, including emails or letters sent to Department officials, will not be considered comments on the proposed rule and will not receive a response from the Department.

As required by 5 U.S.C. 553(b)(4), a summary of this rule may be found in the docket for this rulemaking at www.regulations.gov.

FOR FURTHER INFORMATION CONTACT: Kira Gillespie, Deputy Pardon Attorney, Office of the Pardon Attorney, U.S. Department of Justice, 950 Pennsylvania Avenue NW, Washington, DC 20530; telephone: (202) 514-9251.

SUPPLEMENTARY INFORMATION:

I. Public Participation

Interested persons are invited to participate in this rulemaking by submitting written data, views, or arguments on all aspects of this rule. The Department specifically requests comments regarding the felony offenses that should be presumptively disqualifying; the felony offenses that should be presumptively disqualifying until a specific length of time; and the appropriate length of time after which the former offenses should not be presumptively disqualifying. The Department also invites comments that relate to the economic or federalism effects that might result from this rule. Comments that will provide the most assistance to the Department in developing these procedures will reference a specific portion of the rule, explain the reason for any recommended change, and include data, information, or authority that supports such recommended change. Comments must be submitted in English.

Each submitted comment should include the agency name and reference Docket No. OAG 191. All properly received comments are considered part of the public record and generally may be made available for public inspection at www.regulations.gov. Such information includes personally identifying information (such as name, address, etc.) voluntarily submitted by the commenter. The Department may, in its discretion, withhold from public viewing information provided in comments that it determines may impact the privacy of an individual or is offensive. But all submissions may be posted, without change, to the Federal eRulemaking Portal at https://www.regulations.gov. Therefore, you may wish to limit the amount of personal information you include in your submission.

For additional information, please read the Privacy Act notice that is available via the link in the footer of http://www.regulations.gov.

If you want to submit personally identifying information (such as your name, address, etc.) as part of your comment, but do not want it to be posted online, you must include the phrase “PERSONALLY IDENTIFYING INFORMATION” in the first paragraph of your comment and identify what information you want redacted. The redacted personally identifying information will be placed in the agency's public docket file but not posted online.

If you want to submit confidential business information as part of your comment but do not want it to be posted online, you must include the phrase “CONFIDENTIAL BUSINESS INFORMATION” in the first paragraph of your comment. You also must prominently identify confidential business information to be redacted within the comment. If a comment has so much confidential business information that it cannot be effectively redacted, all or part of that comment may not be posted on www.regulations.gov. The redacted confidential business information will not be placed in the public docket file.

To inspect the agency's public docket file in person, you must make an appointment with the agency. Please see the FOR FURTHER INFORMATION CONTACT paragraph above for agency contact information.

II. Background

The federal Gun Control Act seeks “broadly to keep firearms away from the persons Congress classified as potentially irresponsible and dangerous.” ¹ Accordingly, the Gun Control Act prohibits firearm possession by categories of persons who, as a general matter, pose a danger to others if armed. For example, the prohibition in 18 U.S.C. 922(g)(1) on firearm possession by felons (i.e., persons convicted of crimes punishable for a term exceeding one year) is based on Congress's conclusion that individuals “convicted of serious crimes” can generally “be expected to misuse” firearms.²

¹ Barrett v. United States, 423 U.S. 212, 218 (1976); see Lewis v. United States, 445 U.S. 55, 67 (1980) (observing that “[t]he federal gun laws” are designed “to keep firearms away from potentially dangerous persons”).

² Dickerson v. New Banner Inst., Inc., 460 U.S. 103, 119 (1983).

At the same time, the Gun Control Act includes a mechanism where a “person who is prohibited from possessing, shipping, transporting, or receiving firearms or ammunition may make application to the Attorney General for relief from the disabilities imposed by Federal laws with respect to the acquisition, receipt, transfer, shipment, transportation, or possession of firearms[.]” 18 U.S.C. 925(c). Congress, in enacting section 925(c), recognized that a subset of persons subject to the Gun Control Act may be able to make an individualized showing both that they “will not be likely to act in a manner dangerous to public safety” if allowed to possess firearms and that granting relief from federal firearm disabilities “would not be contrary to the public interest.” Id. Granting such relief in appropriate cases would, among other things, protect the Second Amendment right of the people to keep and bear arms in a manner that is consistent with public safety. Section 925(c) thus provides a mechanism for the Attorney General to relieve otherwise-prohibited persons from federal firearm disabilities if they can show that they are likely to possess firearms safely, while simultaneously ensuring that violent or dangerous persons remain subject to the prohibitions in the Gun Control Act.

Before 2025, the process for determining who qualified for relief pursuant to section 925(c) was delegated to the Bureau of Alcohol, Tobacco, Firearms, and Explosives (“ATF”) by an Assistant Secretary within the Department of the Treasury, see 27 CFR 178.144, and, most recently, after ATF was transferred to the Department of Justice by the Homeland Security Act, by the Attorney General. See 27 CFR 478.144 (withdrawn). Problems arose, however, in the administration of section 925(c). ATF had few clear criteria to guide its assessment of whether applicants would pose a danger to public safety.³ ATF's ad hoc determinations led to significant public-safety concerns. Between 1985 and 1990, ATF granted relief to approximately half of applicants who did not drop out of the process.⁴ One 1992 study found that, out of 100 randomly selected felons to whom ATF granted relief, five had been convicted for felony sexual assault, 11 for burglary, 13 for distribution of narcotics, and 4 for homicide.⁵ Another analysis revealed that ATF granted relief, for example, to an applicant who had fatally shot his cousin while intoxicated and to an applicant who untruthfully failed to disclose his nine-year-old convictions for burglary and brandishing a firearm.⁶ Unsurprisingly, given that applicants received relief even after committing violent and serious felonies, “too many. . . felons whose gun ownership rights were restored went on to commit crimes with firearms.” ⁷

³ See S. Rep. No. 353, 102d Cong., 2d Sess. 19 (1992) (explaining that this was a “subjective task”).

⁴ Josh Sugarmann, Felons Granted Relief From Disability Under Federal Firearms Laws—Ten Case Studies, 138 Cong. Rec. 4186 (March 3, 1992).

⁵ Violence Policy Center, Putting Guns Back Into Criminals' Hands Section Three: 100 Case Studies of Felons Granted Relief From Disability, at 26 (May 1992), https://perma.cc/PN7A-685V.

⁶ Sugarmann, supra, 138 Cong. Rec. 4187.

⁷ H.R. Rep. No. 183, 104th Cong., 1st Sess. 15 (1996).

ATF's administration of section 925(c) was also time consuming and resource intensive. Under the prior regulatory regime, ATF made determinations under section 925(c) after a background check that included interviewing references. See 27 CFR 478.144 (withdrawn). A congressional committee report indicates that “$3.75 million” and “40 man-years” were being spent each year “investigating and acting upon these applications for relief.” ⁸ The committee concluded that such resources “would be better utilized by ATF in fighting violent crime.” ⁹

⁸ H.R. Rep. No. 618, 102d Cong., 2d Sess. 14 (1992).

⁹ Id.

For these reasons, beginning in 1992, Congress prohibited ATF from using funds to process applications under section 925(c), observing that a mistaken determination under section 925(c) can have “devastating consequences for innocent citizens if the wrong decision is made.” ¹⁰ Since 1992 and continuing thereafter, “the appropriations bar has prevented ATF . . . from using ‘funds appropriated herein . . . to investigate or act upon applications for relief from Federal firearms disabilities under 18 U.S.C. 925(c).’ ” ¹¹ And before 2025, the Attorney General had delegated section 925(c)'s statutory authority to ATF. As a result, until recently, the relief from disabilities program was not a viable option for individuals federally prohibited from possessing firearms.

¹⁰ See Treasury, Postal Service, and General Government Appropriations Act, 1993, Public Law 102-393, 106 Stat. 1732; S. Rep. No. 353, 102d Cong., 2d Sess. 19 (1992).

¹¹ United States v. Bean, 537 U.S. 71, 74-75 (2002).

Recognizing that the appropriations bar applies only to ATF, the Attorney General recently issued an interim final rule withdrawing the delegation of authority to ATF to administer section 925(c). See Withdrawing the Attorney General's Delegation of Authority, 90 FR 13080 (Mar. 20, 2025). That interim final rule stated that “the Department anticipates future actions, including rulemaking consistent with applicable law, to give full effect to 18 U.S.C. 925(c) while simultaneously ensuring that violent or dangerous individuals remain disabled from lawfully acquiring firearms.” Id. at 13083. The rule proposed herein is intended to fulfill these objectives.

The appropriations restriction pre-dates the Supreme Court's 2008 decision in District of Columbia v. Heller, 554 U.S. 570 (2008), which held that the Second Amendment guarantees an individual right to keep and bear arms. Under the Supreme Court's 2022 decision in N.Y. State Rifle & Pistol Ass'n, Inc. v. Bruen, 597 U.S. 1 (2022), courts must assess whether firearms laws such as section 922(g) are consistent with the Second Amendment's text and the principles evident from the Nation's historical tradition of firearm regulation. And under the Supreme Court's 2024 decision in United States v. Rahimi, 602 U.S. 680 (2024), whether an individual is dangerous or poses a threat of physical violence is an important consideration in determining whether he may be disarmed.

Since the Bruen decision, there have been many challenges to section 922(g)'s constitutionality under the Second Amendment, with a particularly large volume focusing on section 922(g)(1)'s prohibition on firearm possession by felons. Some of those challenges are declaratory judgment actions brought by felons who have not themselves violated section 922(g)(1) and who maintain that their prior convictions for non-violent offenses do not indicate that they pose an ongoing danger to others. Some of these plaintiffs have had success in challenging section 922(g)(1), as courts have found that the statute is unconstitutional as applied to them.¹² At the same time, some courts have expressly recognized that section 925(c) would alleviate any such constitutional concerns, absent the proviso prohibiting ATF from carrying it out.¹³

¹² See, e.g., Range v. Att'y Gen. U.S., 124 F.4th 218 (3d Cir. 2024) (en banc).

¹³ See, e.g., United States v. Williams, 113 F.4th 637, 661 (6th Cir. 2024) (The “rearmament criteria in § 925(c) map neatly onto the dangerousness principle underlying traditional firearm regulation.”); see also Range, 124 F.4th at 230, 232 (objecting to “permanent” disarmament and concluding that the civil plaintiff was entitled to an opportunity to seek “protection” for “future possession of a firearm”); id. at 275-76 (Krause, J., concurring in the judgment) (“The necessity of such individualized review was evidently not lost on Congress when it enacted § 922(g)(1).”).

As recognized by courts, a functional section 925(c) process would render much of this litigation unnecessary and ensure that individuals meeting the relevant criteria may possess firearms under federal law in a manner consistent with the Second Amendment, while still protecting public safety.

Even more broadly, the Supreme Court has been clear that the rights of ordinary, law-abiding citizens to keep and bear arms is foundational. This rulemaking reflects the Department's commitment to the Second Amendment as an indispensable safeguard of security and liberty and a policy decision that the Department must find a way to both advance public safety and ensure that the rights of the people enshrined in the Constitution are not infringed.

The proposed rule seeks to implement section 925(c) by providing detailed criteria to structure and guide the Attorney General's discretionary determinations under that statute. The criteria are designed to ensure that those granted relief are, in fact, “not likely to act in a manner dangerous to public safety” and that granting such relief would “not be contrary to the public interest.” Unlike ATF's approach prior to 1992, which provided relief from disability to many people convicted of violent crimes or crimes often linked with violence, the proposed rule considers the risk of recidivism posed by those who commit certain offenses and makes certain categories of offenders presumptively ineligible for relief. By making clear that certain characteristics will presumptively result in a denial of relief, the proposed rule ensures that government resources are focused primarily on persons who could plausibly make these necessary showings for relief.

III. Proposed Rule

Under the proposed rule, certain applicants would be presumptively ineligible for relief and therefore denied relief absent extraordinary circumstances. For example, persons currently subject to the prohibitions in section 922(g)(2) (fugitives from justice), (g)(3) (unlawful users of controlled substances), and (g)(8) (those subject to domestic violence restraining orders) would presumptively be denied relief because, having an adjudicated status that indicates a lack of respect for the law and potential dangerousness, they are unlikely to meet the statutory criteria. Moreover, such persons can ordinarily take themselves out of the prohibited category by discontinuing their unlawful conduct or, in the case of section 922(g)(8), seeking a modification or early termination of the protective order.¹⁴ Individuals subject to the prohibition in 922(g)(5) (unlawfully present aliens or certain aliens admitted on nonimmigrant visas) would also be presumptively disqualified because “unlawful aliens are not part of ‘the people’ to whom the protections of the Second Amendment extend,” United States v. Sitladeen, 64 F.4th 978, 987 (8th Cir. 2023).

¹⁴ See Rahimi, 602 U.S. at 699 (finding that the burden of section 922(g)(8) “fits within our regulatory tradition,” in part, because “like surety bonds of limited duration” its restriction “was temporary.”); Range, 124 F.4th at 252 (Krause, J., concurring) (The “Second Amendment demands that the disability it imposes has at least the potential to be ‘of limited duration’ ”); United States v. Perez-Garcia, 96 F.4th 1166, 1181 (9th Cir. 2024) (finding the Bail Reform Act's prohibition on possessing firearms while pending trial as a condition of pretrial release does not violate the Second Amendment because even though it “imposes a heavy burden on Appellants' rights to bear arms because it prohibits them from possessing or attempting to possess any firearm,” the condition “is a temporary one”); Fried v. Garland, 640 F. Supp. 3d 1252, 1262 (N.D. Fla. 2022) (Section 922(g)(3) “does not categorically ban marijuana users from exercising their Second Amendment rights; the burden exists only as long as marijuana users fit the regulations' definition of a ‘current user.’ This is enough to find the regulations ‘relevantly similar’ and foreclose Plaintiffs' Second Amendment claim.”); United States v. Posey, 655 F. Supp. 3d 762, 775-76 (N.D. Ind. 2023) (“The burden imposed by § 922(g)(3) only endures for as long as the individual is an unlawful user or addict, leaving them free to regain their full Second Amendment rights at any time.”).

A. Presumptively Disqualifying Crimes

Congress created section 925(c) to enable individuals to seek relief from federal firearm disabilities where they “will not be likely to act in a manner dangerous to public safety” and it “would not be contrary to the public interest.” The rule identifies certain characteristics that are presumptively disqualifying. An applicant with one of these characteristics may seek to rebut that presumption, but the Department anticipates that the statutory criteria required for the Department to grant relief could only be satisfied if such an applicant could make a showing of extraordinary circumstances.

Research has shown that violent offenders recidivate at a higher rate than non-violent offenders.¹⁵ And individuals convicted of violent offenses are more likely to recidivate by committing another violent offense than those convicted of any other type of crime.¹⁶ Indeed, state assault and robbery offenders were more likely than any kind of offender to recidivate with a violent offense.¹⁷ These findings support a strong presumption that felons convicted of crimes that are particularly linked with dangerous or violent conduct are unlikely to be able to demonstrate that relief from disabilities is in the public interest.

¹⁵ U.S. Sentencing Commission, Recidivism of Federal Violent Offenders Released in 2010, at 5 (“over an eight-year follow-up period, nearly two-thirds (63.8 percent) of violent offenders released in 2010 were rearrested, compared to more than one-third (38.4 percent) of non-violent offenders”).

¹⁶ Id.; see also, Bureau of Justice Statistics, Recidivism of Prisoners Released in 24 States in 2008: A 10-Year Follow-Up Period (2008-2018), at 10, https://perma.cc/WHE3-KQ6W (“10-Year Recidivism Report”).

¹⁷ Id. (noting that, within ten years, 52.8 percent of assault offenders were arrested for a new violent offense and 47.5 percent of robbery offenders were arrested for a new violent offense).

The list of presumptively disqualifying violent crimes is drawn in large part from the definitions of “crime of violence” in the Federal Firearms Act, ch. 850, sec. 1(6), 52 Stat. 1250, and the United States Sentencing Guidelines, U.S.S.G. 4B1.2(a)(2). The list also includes other crimes closely associated with dangerousness, such as threatening or stalking offenses and certain firearm-related offenses that are most often associated with violence or dangerousness.

Similarly, the proposed rule presumptively disqualifies those who have been convicted of any felony sex offense. Sex offenders “released after serving time for rape or sexual assault” are “more than three times as likely as other released prisoners . . . to be arrested for rape or sexual assault during the 9 years following release.” ¹⁸ The proposed rule also would presumptively disqualify other applicants who cannot show that relief from federal firearm disabilities is consistent with public safety and the public interest, such as those currently serving any part of their sentence.

¹⁸ Bureau of Justice Statistics, Recidivism of Sex Offenders Released from State Prison: A 9-Year Follow-Up (2005-14), Table 2 at 4, https://bjs.ojp.gov/content/pub/pdf/rsorsp9yfu0514.pdf (individuals released after conviction for rape or sexual assault were three times as likely to be rearrested within 9 years for a rape or sexual assault (7.7 percent) versus someone convicted for a property offense (2.5 percent)); R. Przybylski, Office of Sex Offender Sentencing, Monitoring, Apprehending, Registering, and Tracking, Recidivism of Adult Sexual Offenders (2015), https://smart.ojp.gov/sites/g/files/xyckuh231/files/media/document/recidivismofadultsexualoffenders.pdf (citing a 2003 finding that sex crime rearrest rate was four times higher for sex offenders than for non-sex offenders (5.3 percent compared to 1.3 percent)).

B. Registration Related Disqualification

The proposed rule also presumptively disqualifies all persons who are currently required to register under the Sex Offender Registration and Notification Act (“SORNA”), 34 U.S.C. 20911-20932, or a state equivalent. Sex offender registration and notification reflect an assessment of ongoing dangerousness. Restoration of firearms rights to someone who is currently required to register as a sex offender due to a felony conviction is unlikely to be in the public interest.

C. Time Limitations

Pursuant to 18 U.S.C. 925(c), the Attorney General must establish to her “satisfaction that the circumstances regarding the disability, and the applicant's record and reputation, are such that the applicant will not be likely to act in a manner dangerous to public safety and that the granting of the relief would not be contrary to the public interest.” In order to make a considered decision regarding the applicant's record and reputation, the Attorney General has determined that certain offenses that are less serious or indicative of violence than those discussed above should be deemed presumptively disqualifying only for a specific period of time. Applicants convicted of such offenses must demonstrate good behavior for a period of time after completion of the sentence for the relevant offense.

Under § 107.1(7) and (8) of the proposed rule, those convicted of certain serious offenses that are not the violent or sexual offenses discussed above, may be considered for relief 10 years after the completion of their sentences based on their individualized circumstances without triggering the presumptive disqualification set forth in this rule. For all other offenses, as specified in § 107.1(a)(9), the Department has selected a presumptively disqualifying time-period of 5 years based on a review of the research and a need to balance public safety with individual rights.

As a preliminary matter, recidivism research shows that most offenders who recidivate do so in the first few years following reentry into the community. But a not insignificant subset continue to recidivate over time. And some offenders will not have a first instance of recidivation until more than nine years after reentry.¹⁹ At the same time, there is a strong relationship between age and recidivism—as offenders age, they are less likely to commit new crimes or to pose a risk to public safety.²⁰ For specified offenses that bear a more direct relationship to violence, the Department selected 10 years following the successful conclusion of any term of probation, parole, supervised release, or other supervision as the period of time during which the offender must not recidivate before an application generally will be considered. For other offenses, the Department selected 5 years. Those selections reflect the Department's expectation that most offenders who pose a risk to public safety will have recidivated before the expiration of those time periods and that the likelihood of new offenses will continue to decrease.

¹⁹ A 10-year study of state offenders found that 66 percent were arrested the within 3 years following release. Bureau of Justice Statistics, Recidivism of Prisoners Released in 24 States in 2008: A 10-Year Follow-Up Period (2008-2018), at 1 (2021) https://perma.cc/ZT4S-38GF. But some offenders had an initial post-release arrest in subsequent years—13 percent of the released offenders who were not re-arrested in the first 4 years had their first arrest in year 5, and 4 percent of the released prisoners not re-arrested after 9 years had their first arrest in year 10. Id at 17.

²⁰ See U.S. Sentencing Commission, The Effects of Aging on Recidivism Among Federal Offenders, at 3 (2017) (“Older offenders were substantially less likely than younger offenders to recidivate following release”).

While persons are not precluded from filing applications prior to the completion of the applicable 5- or 10-year periods, relief from disabilities will not be granted absent a showing of extraordinary circumstances. Additionally, relief from disability following the expiration of the relevant time period is not automatic; the passage of the applicable time period merely enables an individual to attempt to demonstrate that restoration of firearms rights would not be contrary to public safety and the public interest.

The first category of offenders who would be subject to a time-limited presumptive disqualification is those convicted of drug-distribution crimes. It is well established that “offenses relating to drug trafficking . . . are closely related to violent crime.” ²¹ For example, drug traffickers are apt to use firearms “to protect drug stockpiles, to preempt encroachment into a dealer's `territory' by rival dealers, and for retaliation.” ²² Recidivism is common for drug traffickers, with more than 80 percent re-arrested within 10 years following release.²³ Presumptively disqualifying drug traffickers from possessing a firearm following the conclusion of a previous sentence for drug offending is designed to ensure that the offender is no longer engaged in or likely to engage in criminal behavior. Studies show that the risk of recidivism decreases significantly over time.²⁴ In addition, state laws punishing drug distribution vary widely, covering everything from large-scale narcotics trafficking to possessing small amounts of marijuana for distribution.²⁵ And those convicted only of such minor offenses do not necessarily present a danger to public safety long after their release from prison.

²¹ United States v. Barton, 633 F.3d 168, 174 (3d Cir. 2011).

²² United States v. Luciano, 329 F.3d 1, 6 (1st Cir. 2003).

²³ 10-Year Recidivism Report at 10 (Table 11).

²⁴ See U.S. Sentencing Commission, Recidivism of Federal Drug Trafficking Offenders Released in 2010, at 44 (2022), https://perma.cc/PY28-RXMD (“Rearrest rates decreased over time across all drug types.”); Bureau of Justice Statistics, Recidivism of Prisoners Released in 24 States in 2008: A 10-Year Follow-Up Period (2008-2018), at 1 (2021) https://perma.cc/ZT4S-38GF (“The annual arrest percentage declined over time, with 43 percent of prisoners arrested at least once in Year 1 of their release, 29 percent arrested in Year 5, and 22 percent arrested in Year 10.”).

²⁵ See, e.g., Ala. Code 13A-12-213 (possession of any amount of marijuana for other than personal use); Ark. Stat 5-64-419(b)(5)(C), 5-64-215(a)(1) (possession of more than four ounces of marijuana).

Presumptively disqualifying drug-distribution offenders from relief for a period of 10 years has multiple benefits. It ensures that large-scale drug traffickers who serve substantial sentences will be unlikely to ever legally obtain firearms given the length of their sentences. By requiring drug traffickers who served shorter sentences to avoid violating the law for 10 years after their release if they wish to apply for relief without being subject to a presumption against granting relief, the proposed rule reduces the likelihood that those whose firearms rights are restored will subsequently recidivate. At the same time, the proposed rule provides a vehicle for relief for those convicted of low-level drug distribution offenses who have developed a track record of responsibility after the completion of their sentences.

The rule similarly would presumptively disqualify from eligibility, absent extraordinary circumstances, any person who has either: (a) served any part of a sentence for a “misdemeanor crime of domestic violence” (as defined in 18 U.S.C. 921(a)(33) and 27 CFR 478.11) within the last 10 years; or (b) engaged in behavior demonstrating continued propensity for violence at any time within the last 10 years following a conviction for a misdemeanor crime of domestic violence.

By imposing this requirement, the proposed rule recognizes that 18 U.S.C. 922(g)(9) was enacted in part because existing laws “were not keeping firearms out of the hands of domestic abusers [and] because `many people who engage in serious spousal or child abuse ultimately are not charged with or convicted of felonies.' ” ²⁶ However, not all misdemeanor domestic violence offenses indicate a long-term propensity to engage in violent force. Accordingly, there are instances in which an applicant could show that the underlying circumstances of the prior misdemeanor offense did not involve a firearm or potentially lethal violence and that the applicant's good behavior over time (as indicated by no subsequent arrests, no reports to law enforcement for violent or threatening behavior, and no additional protective orders) make relief under section 925(c) appropriate.

²⁶ United States v. Hayes, 555 U.S. 415, 426 (2009) (internal citations omitted).

Finally, the Department has determined that it will presumptively disqualify from eligibility for relief any person who, within the last 5 years, has been convicted of or served any part of a sentence (including probation, parole, supervised release, or other supervision) for any other offense under state or federal law punishable by imprisonment for a term exceeding one year (as defined in 18 U.S.C. 921(a)(20)). The more limited presumptive disqualification period applicable to general offenses reflects the Department's view that while these offenses may be less serious than the offenses subject to the 10-year presumptive disqualification period, an applicant still needs to demonstrate good behavior while not subject to criminal justice supervision. The Department believes that for these offenses, 5 years of good behavior by an applicant is a reasonable period after which the Department will generally consider whether relief under section 925(c) may be appropriate.

D. No Categorical Approach

In determining whether an applicant's prior offense is presumptively disqualifying under this rule, the Attorney General is not limited to a “categorical approach” that looks only at the elements of the applicant's underlying offenses and compares them to a “generic” version of the listed offenses.²⁷ Under the categorical approach that courts have applied in other contexts, such as the Armed Career Criminal Act, 18 U.S.C. 924(e), the actual conduct that led to a person's conviction does not matter; what matters is whether the statute establishing the predicate offense categorically meets the relevant federal definition. As Justice Alito has explained, “[t]he whole point of the categorical approach . . . is that the real world must be scrupulously disregarded.” ²⁸

²⁷ See Taylor v. United States, 495 U.S. 575, 588-89 (1990) (establishing the categorical approach).

²⁸ United States v. Taylor, 142 S. Ct. 2015, 2026 (2022) (Alito, J., dissenting).

In applying this rule, the Attorney General would not be bound by the artificial limits of the categorical approach. The Attorney General may consider the elements of the statute of conviction and conclude that those elements, standing alone, necessarily match the offenses listed in the proposed rule and thereby presumptively render relief to be not in the interest of public safety. But the Attorney General may also go beyond the elements and consider all the facts underlying the applicant's prior offense to determine whether that offense involved conduct that, as a practical matter, qualifies as one of the listed offenses.

The rule also would clarify that the Attorney General's decision whether to grant relief will be based on all the relevant circumstances, rather than a blindered approach that looks only at the facts that led to the applicant's federal firearm disability. For example, an applicant whose only disqualification under section 922(g) is a decades-old, comparatively minor nonviolent felony may still present a danger to others if, for example, he has a recent history of drug use, threatening behavior, or mental health issues. Repeat arrests may also indicate a higher likelihood of recidivism, even if the applicant is not ultimately convicted of additional crimes. And convictions that are not disqualifying under section 922(g) may still indicate that the applicant is a danger to others or is at a higher risk of recidivism.²⁹ To guide the Attorney General's holistic review, the rule would set forth a non-exhaustive list of factors that the Attorney General may consider in determining whether the applicant has “established to the [Attorney General's] satisfaction” that relief would be consistent with public safety and the public interest. The rule would also require the applicant to attest that the applicant has not been a member of, or associated with, a group of three or more persons who acted together in the United States or elsewhere with the aim of committing any crime within the last 10 years.

²⁹ See, e.g., U.S. Sentencing Commission, Recidivism among Federal Offenders, A Comprehensive Overview 19, Figure 7A (2016), https://perma.cc/DS8P-LTER (showing correlation between criminal history and recidivism).

To ensure the Attorney General's holistic review is as broad as possible, the Department is requiring notification of the fact of application to the chief law enforcement officer in the locality where the individual lives. The chief law enforcement officer is an individual who is well placed to have specific information regarding relevant or potentially violent conduct that falls short of arrest or conviction, the drug or alcohol abuse of an applicant, or other pertinent facts not available from other readily accessible sources. The chief law enforcement officer may also serve as a conduit for other individuals to submit relevant information about the applicant. In order to facilitate chief law enforcement officer comments on applications, the Department is establishing a routine and simple mechanism that will be published on its website.

E. Limits of Relief

Importantly, relief under section 925(c) only relieves the applicant of specific federal firearm disabilities. It does not restore the right to possess a firearm under state law if the applicant is independently subject to any such state-law prohibition. Additionally, the proposed rule makes clear that relief under section 925(c) does not extend to a person who incurs a new disability after the granting of relief, such as by being convicted of an additional offense punishable by imprisonment for a term exceeding one year.

F. Application Fees

The proposed rule contains a fee provision to offset the costs to the government of processing applications requesting relief from the disability imposed under section 922(g). See 31 U.S.C. 9701. Further, in keeping with the mandates of OMB Circular A-25, Transmittal Memorandum (User charges), the collection of fees will ensure that the valuable services provided to those seeking relief from this disability—the restoration of a vital, constitutional right to individuals not likely to act in a manner dangerous to public safety—can be self-sustaining. This proposed rule establishes a new and untested application process and similar processes do not exist elsewhere in the federal government. Moreover, considering the vital nature of the constitutional right the individual seeks to restore, the Department is unable to delay the proposed rule for sufficient time to allow the performance of a full-scale cost analysis. The Department is proposing an interim fee in the meantime to help offset the costs to the government.

In the meantime, the Department estimates that approximately 1 million people will apply for relief within the first year of the program. In order to fully adjudicate those 1 million applications within a year of receipt, the Department estimates the following personnel and operating costs:

Cost allocation | FY 2026 cost (million)
50 FTE personnel at average yearly cost of salary and benefits of $225,000 | $11.25
Technology and Case Management Startup costs | 6.5
Technology Maintenance and Support | .75
Operational Costs including rent and operational support | 1.5
Contracting and short-term support | 1
Total | 20

At a total cost of $20 Million and with anticipated yield of 1 million applications, the Department would estimate a $20 per application cost to fully self-sustain the first year of the program's operation if the personnel and programmatic levels were accomplished at the above projections.

Accordingly, to cover the costs of processing each application, each applicant would be charged a fee. Indigent applicants, however, could request a waiver or modification of the application fee. Under the proposed rule, the Attorney General will continue to evaluate costs and the interim fee charges periodically, but not less than every two years, to determine the current cost of processing applications; would adjust the fee amount as necessary; and would publish any fee amounts as notices in the Federal Register. This fee would be adjusted using a method of analysis consistent with widely accepted accounting principles and practices and calculated in accordance with the provisions of 31 U.S.C. 9701 and other federal law as applicable.

G. Revocation of Relief Granted

An informed decision by the Attorney General to grant relief from disability requires the applicant to provide all the requested information. If the Attorney General determines the applicant willfully subscribed as true any material matter that the applicant did not believe to be true or if the applicant willfully omitted requested information, the Attorney General retains the discretion to revoke any previously granted relief from disability upon appropriate notice.

H. Other Proposed Regulatory Changes

As relevant here, 28 CFR 25.6(j)(2) currently allows ATF to access the National Instant Criminal Background Check System (“NICS”) Index as part of ATF's criminal and civil enforcement functions under Title 18, Chapter 44. See 28 CFR 25.6(j)(2). Title 18, Chapter 44 includes 18 U.S.C. 925(c). This rule proposes amendments to 28 CFR 25.6(j) to reflect that the Attorney General has rescinded the prior delegation to ATF of the relief of disabilities function under 18 U.S.C. 925(c) and to allow access to the NICS Index by the Attorney General or her designee when making determinations on whether to grant a relief from disabilities.

IV. Statutory and Executive Order Review

A. Executive Orders 12866 and 13563—Regulatory Review

This proposed regulation has been drafted and reviewed in accordance with Executive Order 12866, “Regulatory Planning and Review,” sec. 1(b), The Principles of Regulation, and in accordance with Executive Order 13563, “Improving Regulation and Regulatory Review.”

The Office of Management and Budget (“OMB”) has determined that this proposed rule is not a “significant regulatory action” under Executive Order 12866, section 3(f). This rule will not have an annual effect on the economy of $100 million or more, nor will it adversely affect in a material way the economy, a sector of the economy, productivity, competition, jobs, the environment, public health, or safety, or State, local, or tribal governments or communities.

This proposed rule would implement 18 U.S.C. 925(c) by providing detailed criteria to guide determinations under section 925(c) in order to ensure that those granted relief are, in fact, “not likely to act in a manner dangerous to public safety” and that granting such relief would be “not be contrary to the public interest.” 18 U.S.C. 925(c).

The Department estimates that this rule will have an impact on approximately 1 million applicants per year, and that the application will take approximately 60 minutes to complete. The Department's cost estimates for this rule are as follows:

Labor Costs: One hour of labor ($47.92/hour × 1 hour) ³⁰ for completing and submitting or mailing the application × 1 million potential applicants = $47,920,000. The annual labor cost of this rule would be $47,920,000. In addition, the Department is proposing a $20 per application cost to fully self-sustain the first year of the program's operation. Indigent applicants would be allowed to request a waiver or modification of the application fee. However, assuming this fee is imposed, and all 1 million potential applicants pay the full fee, this payment would result in total additional cost of $20,000,000 in the first year. Therefore, the total annual cost in the first year would be $67,920,000.

³⁰ The Department bases these economic cost estimates on employee compensation data for March 2025 as determined by the U.S. Department of Labor, Bureau of Labor Statistics, and announced in its news release dated June 13, 2025, which can be found at https://www.bls.gov/news.release/pdf/ecec.pdf. The Bureau of Labor Statistics determined the average hourly employer costs for employee compensation for civilian workers to be $47.92.

The benefits to this rule are that it would provide detailed criteria to guide determinations under section 925(c), and it would make clear that certain characteristics will presumptively result in a denial of relief, ensuring that government resources are focused primarily on persons who could plausibly make the dangerousness and public interest showings necessary for relief under the statute.

B. Executive Order 13132—Federalism

This proposed rule will not have substantial direct effects on the States, on the relationship between the Federal Government and the States, or on the distribution of power and responsibilities among the various levels of government. Therefore, in accordance with section 6 of Executive Order 13132, the Attorney General has determined that this proposed rule does not have federalism implications warranting the preparation of a federalism summary impact statement.

C. Executive Order 12988—Civil Justice Reform

This proposed rule meets the applicable standards set forth in sections 3(a) and 3(b)(2) of Executive Order 12988, “Civil Justice Reform.”

D. Regulatory Flexibility Act

Under the Regulatory Flexibility Act, 5 U.S.C. 601-612, the Attorney General has considered whether this proposed rule would have a significant economic impact on a substantial number of small entities. The term “small entities” comprises small businesses, not-for-profit organizations that are independently owned and operated and are not dominant in their fields, and governmental jurisdictions with populations of less than 50,000.

By approving this proposed rule, the Attorney General certifies that it will not have a significant economic impact on a substantial number of small entities. The Department estimates that this rule will have an impact on at least 20 million adults in the United States and that approximately 1 million individuals will apply in the first year. However, only a small minority of those applications are likely to be from individuals holding federal firearms licenses and small businesses who are seeking to avoid revocation of their licenses, pursuant to 18 U.S.C. 925(c). Based on recent data regarding the number of firearms licenses that were revoked in a given year, the Department estimates that fewer than 195 federal firearms licensees will apply per year. Although the Department acknowledges that slightly higher numbers of licensees may apply in the first few years due to a preexisting pool of revocations, the Department does not anticipate that this will have a substantial impact on the yearly estimate given that individuals who had their licenses revoked many years ago are more likely to have transitioned to other businesses. The application is estimated to take 60 minutes to complete. The cost estimates for this rule are as follows:

Labor Costs: One hour of labor ($47.92/hour × 195 federal firearm licensees) ³¹ for completing the application = $9,344.

³¹ DOJ bases these economic cost estimates on employee compensation data for March 2025 as determined by the U.S. Department of Labor, Bureau of Labor Statistics, and announced in its news release dated June 13, 2025, which is found at https://www.bls.gov/news.release/pdf/ecec.pdf. The Bureau of Labor Statistics determined the average hourly employer costs for employee compensation for civilian workers to be $47.92.

Accordingly, the cost associated with the application to small business is no more than $9,344 per year.

E. Congressional Review Act

This proposed rule is not a major rule as defined by the Congressional Review Act, 5 U.S.C. 804.

F. Unfunded Mandates Reform Act of 1995

This proposed rule will not result in the aggregate expenditure by State, local, and tribal governments, or by the private sector, of $100 million or more in any one year (adjusted for inflation), and it will not significantly or uniquely affect small governments. Therefore, no actions are necessary under the provisions of the Unfunded Mandates Reform Act of 1995, 2 U.S.C. 1531-1538.

G. Paperwork Reduction Act

This proposed rule would call for a new collection of information under the Paperwork Reduction Act of 1995, 44 U.S.C. 3501-3521. As defined in 5 CFR 1320.3(c), “collection of information” comprises reporting, recordkeeping, monitoring, posting, labeling, and other similar actions. The title and description of the information collection, a description of those who must collect the information, and an estimate of the total annual burden follow. The estimate covers the time for reviewing instructions, searching existing sources of data, gathering and maintaining the data needed, and completing and reviewing the collection for submission to the Department.

Title: Application for Restoration of Federal Firearms Rights.

OMB Control Number: TBD.

Summary of the Collection of Information: Under 18 U.S.C. 925(c), the Attorney General may grant relief to individuals who are prohibited under federal law from possessing and engaging in certain activities with respect to firearms and ammunition. Granting such relief in appropriate cases would, among other things, protect the Second Amendment right of the people to keep and bear arms in a manner that is consistent with public safety. Section 925(c) thus provides a mechanism for the Attorney General to relieve otherwise-prohibited persons from federal firearm disabilities if they can show that they are likely to possess firearms safely, while ensuring that violent and dangerous persons remain subject to the prohibitions in the Gun Control Act.

This authority was originally assigned to ATF. Since 1992, however, Congress has prohibited ATF from using appropriated funds to process applications for individuals seeking to restore their federal firearms rights; Congress did not, however, prohibit ATF from using such funds to grant relief to corporations under this provision. The appropriations restriction pre-dates the Supreme Court's 2008 decision in Heller,³² which held that the Second Amendment guarantees an individual right to keep and bear arms. Under the Supreme Court's 2022 decision in Bruen,³³ courts must assess whether firearms laws such as 18 U.S.C. 922(g) are consistent with the principles evident from the Nation's historical tradition of firearm regulation. And under the Supreme Court's 2024 decision in Rahimi,³⁴ whether an individual is dangerous or poses a threat of physical violence is an important consideration in determining whether he may be disarmed. Since the Bruen decision, there have been many challenges to section 922(g)(1)'s constitutionality under the Second Amendment. Some of those challenges are declaratory judgment actions brought by non-violent convicted felons who do not pose any apparent danger to others, and who have not themselves violated section 922(g)(1). Some of these plaintiffs have had success in challenging section 922(g)(1), as courts have found that the statute is unconstitutional as applied to them.³⁵ At the same time, some courts have expressly recognized that section 925(c), absent the proviso prohibiting ATF from carrying it out, might have provided non-violent convicted felons with a viable route to restore their Second Amendment rights.³⁶ A functional 925(c) process would render much of this litigation unnecessary and ensure that individuals meeting the relevant criteria may possess firearms in a manner consistent with the Second Amendment, while still protecting public safety.

³² District of Columbia v. Heller, 554 U.S. 570 (2008).

³³ Bruen, 597 U.S. 1.

³⁴ Rahimi, 602 U.S. 680.

³⁵ See, e.g., Range, 124 F.4th 218.

³⁶ E.g., Williams, 113 F.4th at 661.

This proposed rule adds a new 28 CFR part 107 to allow individuals prohibited under federal law from possessing, shipping, transporting, or receiving firearms or ammunition to regain the ability to make application to the Attorney General for relief from the disabilities imposed under 18 U.S.C. 922(g). It provides detailed criteria to guide determinations under section 925(c). By making clear that certain characteristics will presumptively result in a denial of relief, these criteria will ensure that government resources are focused on persons who could plausibly make these necessary showings for relief. Importantly, relief under section 925(c) only relieves the applicant of specific federal firearm disabilities. It does not restore the right to possess a firearm under state law if the applicant is independently subject to any such state-law prohibition. Additionally, the proposed rule makes clear that relief under section 925(c) does not extend to a person who incurs a new disability after the granting of relief, such as by being convicted of an additional, subsequent offense punishable by imprisonment for a term exceeding one year.

Currently, any individual who wishes to seek relief from these disabilities has limited options available, such as seeking a full and unconditional pardon if the disability applies due to a felony conviction. This proposed rule would allow submission of applications to the Attorney General for processing.

Need for Information: The restoration of firearms rights is statutorily codified in 18 U.S.C. 925(c) and protects the Second Amendment right of the people to keep and bear arms. There is, however, currently no regulatory process in place addressing the Attorney General's process for granting restoration to all individuals who meet the statutory standard. To determine if such relief should be granted to an individual, the Attorney General, by statute, must determine if “the circumstances regarding the disability, and the applicant's record and reputation, are such that the applicant will not be likely to act in a manner dangerous to public safety and that the granting of the relief would not be contrary to the public interest.” The information requested in the application is necessary for the Attorney General to make such a determination.

Proposed Use of Information: To allow the Attorney General to determine whether to grant restoration of firearms rights to applicants while ensuring safety of the public and that such a decision is not contrary to the public interest.

Description of the Respondents: Persons who are subject to disabilities under 18 U.S.C. 922(g) and who choose to make an application for relief pursuant to 18 U.S.C. 925(c).

Estimated Number of Respondents: 1 million per year.

Frequency of Response: Once every five years until relief is granted.

Burden of Response: 60 minutes.

We ask for public comment on the proposed collection of information to help us determine how useful the information is, whether it can help the various levels of government perform their functions better, whether it is readily available elsewhere, how accurate our estimate of the burden of collection is, how valid our methods for determining that burden are, how we can improve the quality, usefulness, and clarity of the information, and how we can minimize the burden of collection.

If you submit comments on the collection of information, submit them both to OMB and to the Docket Management Facility where indicated under ADDRESSES, by the date set forth under DATES.

You need not respond to a collection of information unless it displays a currently valid control number from OMB. Before the requirements for this collection of information become effective, we will publish a notice in the Federal Register of OMB's decision to approve, modify, or disapprove the proposed collection.

H. Executive Order 14192—Regulatory Costs

Executive Order 14192, “Unleashing Prosperity Through Deregulation,” was issued on January 31, 2025. Section 3(a) of Executive Order 14192 requires an agency, unless prohibited by law, to identify at least ten existing regulations to be repealed when the Agency publicly proposes for notice and comment or otherwise promulgates a new regulation. In furtherance of this requirement, section 3(c) of Executive Order 14192 requires that the new incremental costs associated with new regulations shall, to the extent permitted by law, be offset by the elimination of existing costs associated with at least ten prior regulations. This proposed rule is intended to be a deregulatory action under Executive Order 14192 because it provides a means by which the Attorney General may adjudicate applications for relief from the disabilities imposed by 18 U.S.C. 922 pursuant to 18 U.S.C. 925(c).

List of Subjects

28 CFR Part 25

Administrative practice and procedure, Computer technology, Courts, Firearms, Law enforcement officers, Penalties, Privacy, Reporting and recordkeeping requirements, Security measures, Telecommunications.

28 CFR Part 107

Administrative practice and procedure, Arms and munitions, Customs duties and inspection, Exports, Imports, Intergovernmental relations, Law enforcement officers, Military personnel, Penalties, Reporting and recordkeeping requirements, Research, Seizures and forfeitures, Transportation.

Accordingly, for the reasons set forth in the preamble, the Department of Justice is proposing to amend 28 CFR part 25, subpart A and add a new 28 CFR part 107 as follows:

28 CFR Part 25, Subpart A—the National Instant Criminal Background Check System

1. The authority citation for part 25 continues to read as follows:

Authority: Public Law 103-159, 107 Stat. 1536, 49 U.S.C. 30501-30505; Public Law 101-410, 104 Stat. 890, as amended by Public Law 104-134, 110 Stat. 1321.

2. Amend § 25.6 by revising paragraph (j)(2) to read as follows:

§ 25.6 Accessing records in the system.

* * * * *

(j) * * *

* * * * *

(2) Responding to an inquiry from the Bureau of Alcohol, Tobacco, Firearms, and Explosives, or the Attorney General, Attorney General's designee, or Attorney General's designated component in connection with a civil or criminal law enforcement activity relating to the Gun Control Act (18 U.S.C. Chapter 44) or the National Firearms Act (26 U.S.C. Chapter 53); or,

* * * * *

3. Add a new Part 107 to read as follows:

28 CFR Part 107—Relief From Disabilities Under the Gun Control Act

Sec.
107.1 Relief from disabilities under the Gun Control Act.

Authority: 5 U.S.C. 552(a); 18 U.S.C. 921-931.

§ 107.1 Relief from disabilities under the Gun Control Act.

(a) Any person who is prohibited from possessing, shipping, transporting, or receiving firearms or ammunition may make application to the Attorney General for relief from the disabilities imposed under section 922(g) of the Act. See 18 U.S.C. 925(c). The Attorney General has determined, however, that certain characteristics render an applicant presumptively unable to establish to the Attorney General's satisfaction that the applicant will not be likely to act in a manner dangerous to public safety and that the granting of relief would not be contrary to the public interest. Applications will therefore be denied, absent extraordinary circumstances, if the applicant:

(1) Has been convicted under state or federal law of any offense punishable by a term exceeding one year (as defined in 18 U.S.C. 921(a)(20)) that involves the following conduct, excluding jurisdictional requirements:

(i) The death of another of person; sexual abuse or sexual assault (as defined by 18 U.S.C. Chapter 109A); human trafficking; kidnapping (as defined by 18 U.S.C. 1201);

(ii) Intimate partner and domestic violence; animal abuse; burglary; robbery; extortion; carjacking; arson; racketeering (if at least one of the predicate racketeering acts is violent) or gang-related offenses;

(iii) Assault or battery;

(iv) Threats of violence;

(v) Stalking;

(vi) Escape or rescue of a fugitive;

(vii) Terrorism; or

(viii) Witness tampering;

(2) Has been convicted under state or federal law of any felony offense involving conduct prohibited under 18 U.S.C. 922(g), (i), (j), (k), (l), (n), (o), (q), or (u), or 18 U.S.C. 932 and 933, except an individual convicted of violating 18 U.S.C. 922(g)(1) based on an underlying conviction that itself would not be subject to a presumptive denial under this part;

(3) Has been convicted under state or federal law of any felony offense involving the manufacture, possession, transfer, or use of explosives;

(4) Has been convicted under state or federal law of any other felony offense where the defendant committed or threatened acts of violence, or used, brandished, or discharged a firearm or explosive in the course of committing that offense;

(5) Has been convicted under state or federal law of attempting, soliciting, or conspiring to commit, or aiding or abetting the commission of, any of the offenses listed in paragraphs (a)(1) through (a)(4) of this section;

(6) Is currently required to register under the Sex Offender Registration and Notification Act (SORNA), 34 U.S.C. 20911-20932, or comparable sex offender registration statute, based on an offense that disqualified that person from possessing a firearm under the Gun Control Act;

(7) Has, within the last 10 years, been convicted of or served any part of a sentence (including probation, parole, supervised release, or other supervision) for an offense under state or federal law, punishable by imprisonment for a term exceeding one year (as defined in 18 U.S.C. 921(a)(20)), that prohibits the manufacture, import, export, distribution, or dispensing of a controlled substance or the possession of a controlled substance with intent to manufacture, import, export, distribute, or dispense; or has, within the last 10 years, been convicted of or served any part of a sentence (including probation, parole, supervised release, or other supervision) for attempting, soliciting, or conspiring to commit, or aiding or abetting the commission of, an offense listed in this paragraph (a)(7);

(8)

(i) Has within the last 10 years been convicted of or served any part of a sentence (including probation, parole, supervised release, or other supervision) for a misdemeanor crime of domestic violence (as defined in 18 U.S.C. 921(a)(33) and 27 CFR 478.11); or

(ii) At any time within the 10 years following a conviction for a misdemeanor crime of domestic violence (as defined in 18 U.S.C. 921(a)(33) and 27 CFR 478.11) has been:

(A) Subject to any of the disabilities set forth in 18 U.S.C. 922(g) or

(B) Arrested for an offense punishable by imprisonment for a term exceeding one year, a misdemeanor crime of domestic violence, or any offense where the defendant was alleged to have committed or threatened to commit acts of violence or used, brandished, or discharged a firearm or explosive in the course of committing that offense, or attempts thereof, barring evidence from the applicant of a judicial determination that no misconduct occurred;

(9) Has, within the last 5 years, been convicted of or served any part of a sentence (including probation, parole, supervised release, or other supervision) for any other offense under state or federal law punishable by imprisonment for a term exceeding one year (as defined in 18 U.S.C. 921(a)(20));

(10) Is currently serving a sentence of imprisonment;

(11) Is currently on any form of supervision as part of a criminal sentence (such as probation, parole, or other supervision);

(12) Is currently subject to any of the disabilities set forth in 18 U.S.C. 922(g)(2), (g)(3), (g)(5), or (g)(8); or

(13) Has, at any time, had an application for relief under this section denied based on a disqualification under paragraphs (a)(1) through (a)(5) of this section or has, within the previous 5 years, had an application for relief under this section denied for any other reason.

(b) For purposes of this subsection, the phrase “state or federal law” shall include state laws, federal laws, the laws of United States territories, laws of the District of Columbia and Puerto Rico, and Tribal laws. In determining whether the applicant's prior offense is presumptively disqualifying under subsection (a)(1) through (a)(5) of this section and (a)(7) through (a)(9) of this section, the Attorney General may consider all the facts underlying the prior offense to determine whether that offense involved the same or similar conduct targeted by the listed offense. The Attorney General is not confined to a “categorical approach” that looks only at the elements of the underlying offense or that requires an exact correspondence with a “generic” offense.

(c) An application for such relief shall be submitted online or by mail using the form and procedures established by the Attorney General and shall include the information required by this section and any additional data the Attorney General deems appropriate.

(d) Any record or document of a court or other government entity or official required by this paragraph to be furnished by an applicant in support of an application for relief shall be certified by the court or other government entity or official as a true copy. An application shall include:

(1) A statement of all applicable prohibitions on the applicant's possession, transfer, shipment, or receipt of a firearm under 18 U.S.C. 922(g);

(2) Written consent from the applicant to obtain and examine copies of records and to receive statements and information regarding the applicant's background, including records, statements and other information concerning employment, medical history, military service, and criminal record;

(3) In the case of an applicant having been convicted of a crime punishable by imprisonment for a term exceeding one year (as defined in 18 U.S.C. 921(a)(20)), a copy of the indictment or information on which the applicant was convicted; any plea agreement; any factual basis for a plea; any presentence report or other document prepared to aid in sentencing or response thereto; the judgment of conviction or record of any plea of nolo contendere or plea of guilty or finding of guilt by the court; and a certificate from the relevant authority (such as a department of corrections, probation office, or parole board) stating the date of completion of the applicant's sentence, including any term of supervision;

(4) In the case of an applicant who has been adjudicated a mental defective or committed to a mental institution, a copy of the order of a court, board, commission, or other lawful authority that made the adjudication or ordered the commitment; any petition that sought to have the applicant so adjudicated or committed; any medical records reflecting the reasons for commitment and diagnoses of the applicant; any court order or finding of a court, board, commission, or other lawful authority showing the applicant's discharge from commitment, restoration of mental competency, or the restoration of rights; and a current certification from a licensed mental health professional that the applicant does not pose a danger to the community if permitted to possess a firearm;

(5) In the case of an applicant who has been discharged from the Armed Forces under dishonorable conditions, a copy of the applicant's summary of service record (Department of Defense Form 214), charge sheet (Department of Defense Form 458), and final court martial order;

(6) In the case of an applicant who, having been a citizen of the United States, has renounced his or her citizenship, a copy of the formal renunciation of nationality before a diplomatic or consular officer of the United States in a foreign state or before an officer designated by the Attorney General when the United States was in a state of war (see 8 U.S.C. 1481(a)(5) and (6)); and

(7) In the case of an applicant who has been convicted of a misdemeanor crime of domestic violence; a copy of the charging instrument on which the applicant was convicted; a copy of the underlying investigative reports, a statement of the relationship of the victim to the applicant; the judgment of conviction or record of any plea of nolo contendere or plea of guilty or finding of guilt by the court; a certificate from the relevant authority (such as a department of corrections, probation office, or parole board) stating the date of completion of the applicant's sentence, including any term of supervision; and any record purporting to show that the conviction was rendered nugatory or that civil rights were restored;

(8) A copy of any application, and any decision on that application, made to a state or other political subdivision to expunge or set aside a prior conviction, to restore the right to possess a firearm, or to restore any other civil rights that the applicant has forfeited;

(9) Two properly completed FBI Forms FD-258 (Fingerprint Card) or an equivalent electronic fingerprint scan;

(10) A copy of the individual's criminal record check for:

(i) Each state, or locality if a state-wide report unavailable, in which the applicant has resided since turning 18 or for the last 25 years, whichever is shorter; and

(ii) Each state, or locality if a state-wide report unavailable, in which the individual has been arrested since turning 18.

(11) In the case of an applicant who is an individual, an affidavit from three references, attesting under penalty of perjury that:

(i) The affiant is not related to the applicant by blood or marriage and has known the applicant for at least three years;

(ii) The affiant is not currently prohibited from possessing a firearm under 18 U.S.C. 922(g);

(iii) To the affiant's knowledge, the applicant:

(A) Has not committed any crime, other than routine traffic or parking infractions, or similarly minor offenses, within the past five years;

(B) Is not an unlawful user of or addicted to any controlled substance (as defined in section 102 of the Controlled Substances Act (21 U.S.C. 802), including marijuana, regardless of whether the controlled substance has been legalized or decriminalized for medicinal or recreational purposes in the state where the applicant resides;

(C) Does not regularly abuse alcohol or other intoxicants, including prescription drugs;

(D) Is not currently suffering from a mental health condition that would impair the applicant's judgment or behavior;

(E) Is a person of good character and has a good reputation in the community;

(F) Has not threatened to use violence, or attempted to do so, toward any person regardless of whether the authorities were notified; and

(H) Would not pose a danger to public safety, to family members, or to intimate partners if permitted to possess a firearm.

(12) An affirmation from the applicant under penalty of perjury that the applicant:

(i) Has not committed any crime, other than routine traffic or parking infractions, or similarly minor offenses, within the past five years;

(ii) Is not an unlawful user of or addicted to any controlled substance (as defined in section 102 of the Controlled Substances Act (21 U.S.C. 802), including marijuana, regardless of whether the controlled substance has been legalized or decriminalized for medicinal or recreational purposes in the state where the applicant resides;

(iii) Does not regularly abuse alcohol or other intoxicants, including prescription drugs;

(iv) Is not currently suffering from a mental health condition that would impair the applicant's judgment or behavior;

(v) Is a person of good character and has a good reputation in the community;

(vi) Has not threatened to use violence, or attempted to do so toward any person regardless of whether the authorities were notified; and

(vii) Would not pose a danger to public safety, to family members, or to intimate partners if permitted to possess a firearm.

(viii) Has notified, through an appropriate form, the chief law enforcement officer of the locality in which the applicant is located that the applicant is seeking relief through this section, and that within 14 days of that notification, the chief law enforcement officer may submit comments through the mechanism described on the Restoration of Federal Firearms Rights application or website to the Department either supporting or opposing the application. The chief law enforcement officer is the local chief of police, county sheriff, head of the state police, or state or local district attorney or prosecutor.

(ix) Has not been a member of, or associated with, a group of three or more persons who acted together in the United States or elsewhere with the aim of committing any crime within the last 10 years.

(x) Provided all information relevant to the applicant's eligibility under paragraph (a) of this section and that all information provided in the application is true and correct.

(d) The Attorney General may grant relief to an applicant if the applicant has established to the satisfaction of the Attorney General that the circumstances regarding the disability, and the applicant's record and reputation, are such that the applicant will not be likely to act in a manner dangerous to public safety, and that the granting of the relief would not be contrary to the public interest. In making this determination, the Attorney General may consider all information submitted as part of the application and all other relevant information, including the following:

(1) All of the applicant's prior convictions for any offense;

(2) The seriousness of the conduct involved in all of the applicant's prior convictions for any offense;

(3) The conduct underlying any charges against the applicant that were dismissed in exchange for a guilty plea;

(4) The applicant's conduct while serving any criminal sentence, including compliance with conditions of supervision and satisfaction of any financial penalties;

(5) The time elapsed since the applicant's completion of any criminal sentence and their conduct during that time;

(5) The applicant's past or present use of controlled substances;

(6) Any arrests, regardless of whether they resulted in criminal charges, including a review of the police report, where available;

(7) Any restraining orders, regardless of whether that behavior related to an arrest;

(8) Any threats or threatening behavior, regardless of whether that behavior resulted in criminal charges;

(9) The applicant's mental health, including any abnormal behaviors or mental health treatment;

(10) Any information provided by the chief law enforcement officer of the locality in which the applicant is located, including victim impact statements; and,

(11) Whether, in the view of the Attorney General, the applicant's individual circumstances demonstrate that a failure to grant relief would infringe the applicant's rights under the Second Amendment.

(e) In addition to meeting the requirements of paragraph (d) of this section, an applicant who has been adjudicated a mental defective or committed to a mental institution will not be granted relief unless the applicant was subsequently determined by a court, board, commission, or other lawful authority to have been restored to mental competency, to be no longer suffering from a mental disorder, and to have had all rights restored. Where an applicant was adjudicated a mental defective or committed to a mental institution in a state that has adopted a relief-from-disability program implemented in accordance with 34 U.S.C. 40915, the state program shall be the exclusive means of relief, and the applicant may not obtain relief under this section.

(f) Where an application fails to identify a disability for which relief may be granted, is improperly executed, or is otherwise incomplete, the applicant will be notified of the defect and given an opportunity to amend and resubmit the application within 30 days. Failure to amend and resubmit the application, with supporting documents or records, within 30 days will result in the application being considered abandoned. An abandoned application will not be considered for purposes of determining whether the person's application should be presumptively denied based on paragraph (a)(13).

(g) Whenever relief is granted to any person pursuant to this section, a notice of such action shall be promptly published in the Federal Register, together with the reasons therefor.

(h) A person who has been granted relief under this section shall be relieved of the disability or disabilities imposed by the Act for which relief is sought with respect to the acquisition, receipt, transfer, shipment, transportation, or possession of firearms or ammunition and incurred by reason of such disability. Such relief will not extend to disabilities imposed by state law if the applicant is independently subject to any such state-law prohibition. A person who is subject to a different disability or incurs a new disability after the granting of relief, such as being convicted in any court of an additional crime punishable by imprisonment for a term exceeding one year, will not be relieved of such disability and must reapply for relief.

(i)(1) A federal firearms licensee who incurs disabilities under the Act (see 27 CFR 478.32(a)) during the term of a current license or while the licensee has pending a license renewal application with the Bureau of Alcohol, Tobacco, Firearms, and Explosives (ATF), and who, within 30 days following the date of incurring the disability for which relief may be granted, files an application for removal of such disabilities, shall not be barred from licensed operations for 30 days following the date on which the applicant was first subject to such disabilities (or 30 days after the date upon which the conviction for a crime punishable by imprisonment for a term exceeding 1 year becomes final), and if the licensee files the application for relief as provided by this section within such 30-day period, the licensee may further continue licensed operations during the pendency of the application. A licensee who does not file such application within such 30-day period shall not continue licensed operations beyond 30 days following the date on which the licensee was first subject to such disabilities (or 30 days from the date the conviction for a crime punishable by imprisonment for a term exceeding 1 year becomes final).

(2) In the event the term of a license of a person expires during the 30-day period specified in paragraph (i)(1) of this section, or during the pendency of the application for relief, a timely application for renewal of the license must be filed in order to continue licensed operations. Such license application shall show that the applicant (or responsible person of the applicant) is subject to federal firearm disabilities, shall describe the event giving rise to such disabilities, and shall state when the disabilities were incurred.

(3) A licensee shall not continue licensed operations beyond 30 days following the date on which the notification that the licensee's application for removal of disabilities has been denied is issued.

(4) When as provided in this paragraph (i) a licensee may no longer continue licensed operations, any application for renewal of license filed by the licensee during the pendency of the application for removal of disabilities shall be denied by the Attorney General.

(j)(1) The Attorney General will charge a fee for processing applications requesting relief from the disabilities imposed under section 922(g) of the Act.

(i) The Attorney General shall review the amount of the fee periodically, but not less than every two years, to determine the current cost of processing applications.

(ii) Fee amounts and any revisions thereto shall be determined by current costs, using a method of analysis consistent with widely accepted accounting principles and practices, and calculated in accordance with the provisions of 31 U.S.C. 9701 and other federal law as applicable.

(iii) Fee amounts and any revisions thereto shall be published as a notice in the Federal Register.

(2) Applicants may request a waiver or modification of the application fees. Each applicant shall set forth the reasons why a waiver or modification should be granted. Fees may be waived or reduced because of indigency.

(k) The Attorney General retains the discretion to revoke relief granted to a person pursuant to this section and upon notice if the Attorney General determines the person willfully subscribed as true any material matter which he does not believe to be true or willfully omitted requested information.

Dated: July 16, 2025.
Pamela Bondi,
Attorney General.

[FR Doc. 2025-13765 Filed 7-21-25; 8:45 am]

BILLING CODE 4410-29-P